FEDERAL COMMUNICATIONS COMMISSION

FCC To Hold Open Commission Meeting Thursday, December 11, 2014

December 4, 2014.

The Federal Communications Commission will hold an Open Meeting on the subjects listed below on Thursday, December 11, 2014. The meeting is scheduled to commence at 10:30 a.m. in Room TW-C305, at 445 12th Street SW., Washington, DC.

Item No. | Bureau | Subject
1 | WIRELINE COMPETITION | TITLE: Modernizing the E-rate Program for Schools and Libraries (WC Docket No. 13-184); Connect America Fund (WC Docket No. 10-90).
|  | SUMMARY: The Commission will consider a Second Report and Order and Order on Reconsideration in WC Docket No. 13-184 and a Report and Order in WC Docket No. 10-90 to close the school and library connectivity gap by adjusting program rules and support levels in order to meet long-term program goals for high-speed connectivity to and within all eligible schools and libraries.
2 | WIRELINE COMPETITION | TITLE: Connect America Fund (WC Docket No. 10-90); ETC Annual Reports and Certifications (WC Docket No. 14-58); Petition of USTelecom for Forbearance Pursuant to 47 U.S.C. 160(c) from Obsolete ILEC Regulatory Obligations that Inhibit Deployment of Next-Generation Networks (WC Docket No. 14-192).
|  | SUMMARY: The Commission will consider a Report and Order finalizing decisions necessary to proceed to Phase II of the Connect America Fund.
3 | WIRELESS TELECOMMUNICATIONS | TITLE: Broadcast Incentive Auction Public Notice Auction 1000, 1001 and 1222 (GN Docket No. 12-268).
|  | SUMMARY: The Commission will consider a Public Notice that asks for comment on the detailed procedures necessary to carry out the Broadcast Incentive Auction. The Public Notice includes specific proposals on auction design issues such as determination of the initial clearing target, opening bid prices, and the final television channel assignment process.
* * * * * * *

Consent Agenda

The Commission will consider the following subjects listed below as a consent agenda and these items will not be presented individually:

1 | ENFORCEMENT | TITLE: AERCO Broadcasting Corporation, Licensee of Station WSJU-TV, San Juan, Puerto Rico.
|  | SUMMARY: The Commission will consider a Memorandum Opinion and Order concerning an Application for Review filed by AERCO Broadcasting Corporation seeking review of a Forfeiture Order issued by the Enforcement Bureau.
2 | MEDIA | TITLE: Educational Media Foundation, Application for a Construction Permit for a Minor Change to a Licensed Facility, Station W267AT, Sherburne, New York, MO&O, CLAS 140194.
|  | SUMMARY: The Commission will consider a Memorandum Opinion and Order concerning an Application for Review filed by Educational Media Foundation seeking review of an application dismissal by the Media Bureau.
3 | MEDIA | TITLE: Silver Fish Broadcasting, Inc., License Status of Silent Station DWTTT(FM), Stratford, NH.
|  | SUMMARY: The Commission will consider a Memorandum Opinion and Order concerning an Application for Review filed by Silver Fish Broadcasting, Inc. seeking review of a Media Bureau decision.
4 | MEDIA | TITLE: JNE Investments, Inc., Application for New AM Station at Bethel, MN and Langer Broadcasting Group, LLC, Application for New AM Station at Chanhassen, MN.
|  | SUMMARY: The Commission will consider a Memorandum Opinion and Order concerning an Application for Review filed by JNE Investments, Inc. seeking review of a decision by the Media Bureau.
5 | MEDIA | TITLE: Application of Radio One Licenses, LLC for a License to Cover the Modified Facilities of WOLB(AM), Baltimore, Maryland and Application of WIOO Radio, Inc. for a Minor Change to the Licensed Facilities of WIOO(AM), Carlisle, Pennsylvania.
|  | SUMMARY: The Commission will consider a Memorandum Opinion and Order concerning two Applications for Review filed by Radio One Licenses seeking review of decisions by the Media Bureau.
6 | MEDIA | TITLE: Estate of Linda Ware, Cynthia Ramage, Executor, Application to Assign the License of Broadcast Station KZPO(FM), Lindsay, California, Estate of H.L. Charles, Robert Willing, Executor, Application to Assign the Construction Permit of Broadcast Station KZPE(FM), Ford City, California, William L. Zawila, Application to Assign the Construction Permit of Broadcast Station KNGS(FM), Coalinga, California.
|  | SUMMARY: The Commission will consider a Memorandum Opinion and Order concerning an Application for Review jointly filed by the Estate of Linda Ware, Cynthia Ramage, Executor; the Estate of H.L. Charles, Robert Willing, Executor and William L. Zawila seeking review of assignment application dismissals by the Media Bureau.
7 | MEDIA | TITLE: People of Progress, Inc. Application for a New LPFM Station at Redding, California.
|  | SUMMARY: The Commission will consider a Memorandum Opinion and Order concerning an Application for Review filed by People of Progress, Inc. seeking review of an application dismissal by the Media Bureau.
8 | MEDIA | TITLE: Roman Catholic Diocese of Portland, Maine, Application for Construction Permit for a New Noncommercial Educational FM Radio Station, Scarborough, Maine; New Hampshire Public Radio, Inc., Application for Construction Permit for a New Noncommercial Educational FM Radio Station, Holderness, New Hampshire; University of Massachusetts, Application for Construction Permit for a New Noncommercial Educational FM Radio Station, Gloucester, Massachusetts and Plus Charities, Application for Construction Permit for a New Noncommercial Educational FM Radio Station, Coggon, Iowa.
|  | SUMMARY: The Commission will consider a Memorandum Opinion and Order concerning four Applications for Review seeking review of Media Bureau decisions dismissing applications for new noncommercial educational FM radio stations.
9 | MEDIA | TITLE: Channel 23 Limited Partnership, Applications for a Minor Change in Facilities and a License to Cover Construction Permit for Class A Television Broadcast Station WWME-CA, Chicago, Illinois.
|  | SUMMARY: The Commission will consider a Memorandum Opinion and Order concerning an Application for Review jointly filed by KM LPTV of Chicago-13, L.L.C. and KM LPTV of Chicago-28, L.L.C. seeking review of a Media Bureau decision.
10 | MEDIA | TITLE: Gray Television Licensee, LLC, Licensee of Station WAHU-CD.
|  | SUMMARY: The Commission will consider a Memorandum Opinion and Order and Adopting Order concerning a renewal and consent decree between the Media Bureau and Gray Television.
11 | MEDIA | TITLE: Christopher Falletti, Application for Construction Permit for New FM Station Medina, North Dakota.
|  | SUMMARY: The Commission will consider a Memorandum Opinion and Order concerning an Application for Review filed by Two Rivers Broadcasting, Inc. seeking review of a Media Bureau decision.
12 | MEDIA | TITLE: Anniston Seventh-Day Adventist Church For a New Noncommercial Educational FM Station at Anniston, Alabama and Board of Trustees of Jacksonville State University For a New Noncommercial Educational FM Station at Anniston, Alabama.
|  | SUMMARY: The Commission will consider a Memorandum Opinion and Order concerning an Application for Review filed by the Board of Trustees of Jacksonville State University seeking review of a Media Bureau decision.
13 | MEDIA | TITLE: Airen Broadcasting Company for a Minor Change to KZCC(FM), McCloud, California, The State of Oregon Acting By and Through the State Board of Higher Education on Behalf of Southern Oregon University for a Minor Change to KNHT(FM), Rio Dell, California.
|  | SUMMARY: The Commission will consider a Memorandum Opinion and Order concerning an Application for Review filed by the State of Oregon seeking review of a Media Bureau decision.
14 | MEDIA | TITLE: Aerco Broadcasting Corporation, Licensee of Station WSJU-TV, San Juan, Puerto Rico.
|  | SUMMARY: The Commission will consider a Memorandum Opinion and Order concerning an Application for Review filed by Aerco Broadcasting Corporation seeking review of a Forfeiture Order issued by the Media Bureau's Video Division.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2014-29693 Filed 12-18-14; 8:45 am]

BILLING CODE 6712-01-P